DEPARTMENT OF ENERGY

Environmental Management Advisory Board

AGENCY: Office of Environmental Management, Department of Energy.

ACTION: Notice of open virtual meeting.

SUMMARY: This notice announces an online virtual meeting of the Environmental Management Advisory Board (EMAB). The Federal Advisory Committee Act requires that public notice of this conference call be announced in the Federal Register.

DATES: Tuesday, September 29, 2020; 2:00 p.m.-4:30 p.m. EDT.

ADDRESSES: This meeting will be held virtually via WebEx. To attend, please contact Alyssa Harris by email, Alyssa.Harris@em.doe.gov, no later than 5:00 p.m. EDT on Tuesday, September 22, 2020.

To Submit Public Comment: Public comments will be accepted via email prior to and after the meeting. Comments received no later than 5:00 p.m. EDT on Tuesday, September 22, 2020, will be read aloud during the virtual meeting. Comments will also be accepted after the meeting by no later than 5:00 p.m. EDT on Friday, October 2, 2020. Please send comments to Alyssa Harris at Alyssa.Harris@em.doe.gov.

FOR FURTHER INFORMATION CONTACT: Alyssa Harris, EMAB Federal Coordinator. U.S. Department of Energy, 1000 Independence Avenue SW, Washington, DC 20585. Phone: (202) 430-9624 or Email: Alyssa.Harris@em.doe.gov.

SUPPLEMENTARY INFORMATION:

Purpose of the Board: The purpose of EMAB is to provide the Assistant Secretary for Environmental Management (EM) with independent advice and recommendations on corporate issues confronting the EM program. EMAB's membership reflects a diversity of views, demographics, expertise, and professional and academic experience. Individuals are appointed by the Secretary of Energy to serve as either special Government employees or representatives of specific interests and/or entities.

Tentative Agenda:

• EMAB Subcommittee Presentations

○ Dispute Resolution Subcommittee

○ Risk Based Decision Making Subcommittee

○ RCRA/CERCLA Streamlining Subcommittee

○ Performance Metrics Subcommittee

• Board Business

Public Participation: The online virtual meeting is open to the public. Written statements may be filed with the Board either before or after the meeting by sending them to Alyssa Harris at the aforementioned email address. The Designated Federal Officer is empowered to conduct the conference call in a fashion that will facilitate the orderly conduct of business. Individuals wishing to make public comments should email them as directed above.

Minutes: Minutes will be available by writing or calling Alyssa Harris at the address or phone number listed above. Minutes will also be available at the following website: https://www.energy.gov/em/listings/emab-meetings.

Signed in Washington, DC, on September 11, 2020.
LaTanya Butler,
Deputy Committee Management Officer.

[FR Doc. 2020-20501 Filed 9-16-20; 8:45 am]

BILLING CODE 6450-01-P